FEDERAL RESERVE SYSTEM

Agency Information Collection Activities: Announcement of Board Approval Under Delegated Authority and Submission to OMB

SUMMARY:

Background

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act (PRA) Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Michelle Shore—Division of Research and Statistics, Board of Governors of the Federal Reserve System, Washington, DC 20551 (202-452-3829);

OMB Desk Officer—Shagufta Ahmed—Office of Information and Regulatory Affairs, Office of Management and Budget, New Executive Office Building, Room 10235, Washington, DC 20503.

Final approval under OMB delegated authority of the extension for three years, without revision, of the following reports:

1. Report title: Surveys of Board Publications.

Agency form number: FR 1373a,b.

OMB control number: 7100-0301.

Frequency: FR 1373a survey, one or two times per year; FR 1373a discussion groups, two times a year. FR 1373b small-panel survey, two times a year; FR 1373b large-panel survey, one time per year.

Reporters: FR 1373a—community-based educators, key stakeholders, and other educators who have previously requested consumer education materials from the Federal Reserve. FR 1373b—current subscribers of the publications being surveyed.

Estimated annual reporting hours: FR 1373a survey, 375 hours; FR 1373a discussion groups, 60 hours. FR 1373b small-panel, 6 hours; FR 1373b large-panel 32 hours.

Estimated average hours per response: FR 1373a survey, 30 minutes; FR 1373a discussion groups, 90 minutes. FR 1373b small-panel, 10 minutes; FR 1373b large-panel 10 minutes.

Number of respondents: FR 1373a survey, 500; FR 1373a panel discussion, 20. FR 1373b small-panel, 20; FR 1373b large-panel, 200.

General description of report: This information collection is voluntary. The FR 1373a study is authorized pursuant to section 18(f) of the Federal Trade Commission Improvement Act (15 U.S.C. 57a (f)). The FR 1373b study is authorized pursuant to the Federal Reserve Act (12 U.S.C. 248(i)). The specific information collected is not considered confidential.

Abstract: The Federal Reserve uses the FR 1373a to (1) conduct periodic reviews and evaluations of the consumer education materials and (2) develop and evaluate consumer education materials under consideration for distribution. The FR 1373b data help the Federal Reserve determine if it should continue to issue certain publications and, if so, whether the public would like to see changes in the method of information delivery, frequency, content, format, or appearance.

Current Actions: On June 25, 2010, the Federal Reserve published a notice in the Federal Register (75 FR 36393) seeking public comment for 60 days on the extension, without revision, of the Surveys of Board Publications. The comment period for this notice expired on August 24, 2010. The Federal Reserve did not receive any comments.

2. Report title: Interagency Bank Merger Act Application.

Agency form number: FR 2070.

OMB control number: 7100-0171.

Frequency: On occasion.

Reporters: State member banks.

Estimated annual reporting hours: Nonaffiliate Transactions, 1,470 hours; Affiliate Transactions, 216 hours.

Estimated average hours per response: Nonaffiliate Transactions, 30 hours; Affiliate Transactions, 18 hours.

Number of respondents: Nonaffiliate Transactions, 49; Affiliate Transactions, 12.

General description of report: This information collection is mandatory. The FR 2070 is pursuant to section 18(c) of the Federal Deposit Insurance Act (12 U.S.C. 1828(c)) and is not given confidential treatment. However, applicants may request that parts of a submitted application be kept confidential. In such cases, the burden is on the applicant to justify the exemption by demonstrating that disclosure would cause substantial competitive harm or result in an unwarranted invasion of personal privacy or would otherwise qualify for an exemption under the Freedom of Information Act (5 U.S.C. 552(b)(4), (b)(6)). The confidentiality status of the information submitted will be judged on a case-by-case basis.

Abstract: The Federal Reserve, the Office of the Comptroller of the Currency, the Federal Deposit Insurance Corporation, and the Office of Thrift Supervision each use this application form to collect information for bank merger proposals that require prior approval under the Bank Merger Act. Prior approval is required for every merger transaction involving affiliated or nonaffiliated institutions and must be sought from the regulatory agency of the depository institution that would survive the proposed transaction. A merger transaction may include a merger, consolidation, assumption of deposit liabilities, or certain asset-transfers between or among two or more institutions. The Federal Reserve collects this information so that it may meet its statutory obligation to evaluate the competitive, financial, managerial, future prospects, and convenience and needs aspects of each state member bank merger proposal.

Current Actions: On June 25, 2010, the Federal Reserve published a notice in the Federal Register (75 FR 36393) seeking public comment for 60 days on the extension, without revision, of the Interagency Bank Merger Act Application. The comment period for this notice expired on August 24, 2010. The Federal Reserve did not receive any comments.

3. Report title: Interagency Notice of Change in Control, Interagency Notice of Change in Director or Senior Executive Officer, and Interagency Biographical and Financial Report.

Agency form number: FR 2081a, FR 2081b, and FR 2081c.

OMB control number: 7100-0134.

Frequency: On occasion.

Reporters: Financial institutions and certain of their officers and shareholders.

Annual reporting hours: FR 2081a, 3,570 hours; FR 2081b, 272 hours; FR 2081c, 3,572 hours.

Estimated average hours per response: FR 2081a, 30 hours; FR 2081b, 2 hours; FR 2081c, 4 hours.

Number of respondents: FR 2081a, 119; FR 2081b, 136; FR 2081c, 893.

General description of report: This information collection is mandatory pursuant to section 7(j) of the Federal Deposit Insurance Act (12 U.S.C. 1817(j)) and section 914 of the Financial Institutions Reform, Recovery, and Enforcement Act (12 U.S.C. 1831(i)) and is not given confidential treatment. However, applicants may request that parts of a submitted application be kept confidential. In such cases, the burden is on the applicant to justify the exemption by demonstrating that disclosure would cause substantial competitive harm or result in an unwarranted invasion of personal privacy or would otherwise qualify for an exemption under the Freedom of Information Act (5 U.S.C. 552(b)(4), (b)(6)). The confidentiality status of the information submitted will be judged on a case-by-case basis.

Abstract: The information collected assists the Federal Reserve, the Office of the Comptroller of the Currency, the Federal Deposit Insurance Corporation, and the Office of Thrift Supervision in fulfilling their statutory responsibilities as supervisors. Each of these forms is used to collect information in connection with applications and notices filed prior to proposed changes in the ownership or management of banking organizations. The agencies use the information to evaluate the controlling owners, senior officers, and directors of the insured depository institutions subject to their oversight.

Current Actions: On June 25, 2010, the Federal Reserve published a notice in the Federal Register (75 FR 36393) seeking public comment for 60 days on the extension, without revision, of the FR 2081a, b, c. The comment period for this notice expired on August 24, 2010. The Federal Reserve did not receive any comments.

4. Report title: Recordkeeping and Disclosure Requirements Associated with Regulation R.

Agency form number: FR 4025.

OMB control number: 7100-0316.

Frequency: On occasion.

Reporters: Commercial banks and savings associations.

Estimated annual reporting hours: Section 701, disclosures to customers—12,500 hours; Section 701, disclosures to brokers—375 hours; Section 723, recordkeeping—188 hours; Section 741, disclosures to customers—62,500 hours.

Estimated average hours per response: Section 701, disclosures to customers—5 minutes; Section 701, disclosures to brokers—15 minutes; Section 723, recordkeeping—15 minutes; Section 741, disclosures to customers—5 minutes.

Number of respondents: Section 701, disclosures to customers—1,500; Section 701, disclosures to brokers—1,500; Section 723, recordkeeping—75; Section 741, disclosures to customers—750.

General description of report: This information collection is required to obtain a benefit pursuant to section 3(a)(4)(F) of the Securities Exchange Act (15 U.S.C. 78c(a)(4)(F)) and may be given confidential treatment under the authority of the Freedom of Information Act (5 U.S.C. 552(b)(4), (b)(8)).

Abstract: Regulation R implements certain exceptions for banks from the definition of broker under Section 3(a)(4) of the Securities Exchange Act of 1934, as amended by the Gramm-Leach-Bliley Act. Sections 701, 723, and 741 of Regulation R contain information collection requirements. Section 701 requires banks that wish to utilize the exemption in that section to make certain disclosures to the high net worth customer or institutional customer. In addition, section 701 requires banks that wish to utilize the exemption in that section to provide a notice to its broker-dealer partner regarding names and other identifying information about bank employees. Section 723 requires a bank that chooses to rely on the exemption in that section to exclude certain trust or fiduciary accounts in determining its compliance with the chiefly compensated test in section 721 to maintain certain records relating to the excluded accounts. Section 741 requires a bank relying on the exemption provided by that section to provide customers with a prospectus for the money market fund securities, not later than the time the customer authorizes the bank to effect the transaction in such securities, if the class of series of securities are not no-load.

Current Actions: On June 25, 2010, the Federal Reserve published a notice in the Federal Register (75 FR 36393) seeking public comment for 60 days on the extension, without revision, of the FR 4025. The comment period for this notice expired on August 24, 2010. The Federal Reserve did not receive any comments.

Board of Governors of the Federal Reserve System, September 7, 2010.
Jennifer J. Johnson,
Secretary of the Board.

[FR Doc. 2010-22676 Filed 9-10-10; 8:45 am]

BILLING CODE P